NUCLEAR REGULATORY COMMISSION

10 CFR Parts 20, 32, and 35

RIN 3150-AF74

Medical Use of Byproduct Material; Correction

AGENCY: Nuclear Regulatory Commission.

ACTION: Final rule: correction.

SUMMARY: This document corrects a final rule appearing in the Federal Register on April 24, 2002 (67 FR 20250). This action in necessary to correct typographic and editorial errors.

EFFECTIVE DATE: October 24, 2002.

FOR FURTHER INFORMATION CONTACT: Anthony Tse, Office of Nuclear Material Safety and Safeguards, U.S. Nuclear Regulatory Commission, Washington, DC 20555-0001, telephone (301) 415-6233; e-mail ant@nrc.gov.

SUPPLEMENTARY INFORMATION: In rule FR Doc. 02-9663 published April 24, 2002, (67 FR 20250) make the following corrections:

1. On page 20253, third column, second paragraph, tenth line, the word “Specialities” should read “Specialties.”

2. On page 20260, first column, second complete paragraph, tenth line, the word “Specialities” should read “Specialties.”

3. On page 20342, second column, 14th line, “2120 L Street NW. (Lower Level), Washington, DC” should read “One White Flint North, 11555 Rockville Pike, Room O-1F21, Rockville, MD 20852.”

4. On page 20350, first column, 25th line, insert the word “contains” after the word “INFORMATION.”

§ 20.1002 [Amended]

5. In § 20.1002, 19th line, the comma after the word “released” should be deleted.

§ 20.1003 [Amended]

6. In § 20.1003, Occupational dose, 15th line, the comma after the word “released” should be deleted.

7. In § 20.1003, Public dose, 12th line, the comma after the word “released” should be deleted.

§ 20.1301 [Amended]

8. In § 20.1301(a)(1), tenth line, the comma after the word “released” should be deleted.

§ 32.72 [Amended]

9. In § 32.72, last line, after “35.55(b)”, insert the words “or, prior to October 25, 2004, 10 CFR 35.980(b).”

§ 35.6 [Amended]

10. In § 35.6(c), fifth line, the word “license” should read “licensee.”

§ 35.12 [Amended]

11. In § 35.12(c)(1)(i), second line, the word “Licens” should read “License.”

§ 35.13 [Amended]

12. In § 35.13(b)(1), fifth line, “35.910, 35.920, 35.930, 35.932, 35.934, 35.940, 35.941, 35.950, or 35.960” should read “35.910(a), 35.920(a), 35.930(a), 35.940(a), 35.950(a), or 35.960(a)”.

13. In § 35.13(b)(2), fourth line, “35.980” should read “35.980(a).”

14. In § 35.13(b)(3), third line, “35.961” should read “35.961(a) or (b).”

§ 35.40 [Amended]

15. In § 35.40(a), fourth line, the word “Megabequerels” should read “Megabecquerels.”

§ 35.51 [Amended]

16. In § 35.51(b)(1), eighth line, the words “an individual who meets the requirements for” should be deleted.

Dated at Rockville, Maryland, this 3rd day of October, 2002.
For the Nuclear Regulatory Commission.
Michael T. Lesar,
Chief, Rules and Directives Branch, Division of Administrative Services, Office of Administration.

[FR Doc. 02-25658 Filed 10-8-02; 8:45 am]

BILLING CODE 7590-01-P